FEDERAL COMMUNICATIONS COMMISSION

47 CFR Part 73

[DA 03-4034; MB Docket No. 03-257, RM-10814]

Radio Broadcasting Services; Hartford and South Haven, MI

AGENCY: Federal Communications Commission.

ACTION: Proposed rule.

SUMMARY: The Audio Division requests comments on a petition for rule making filed by WSJM, Inc. proposing (1) the reallotnent of Channel 279A from Hartford to South Haven, Michigan, and the modification Station WZBL(FM)'s license accordingly; and (2) the reallotment of Channel 252A from South Haven to Hartford, Michigan, and the modification of Station WCSY-FM's license accordingly. Channel 279A can be reallotted to South Haven in compliance with the Commission's minimum distance separation requirements at Station WZBL(FM)'s presently licensed site. The coordinates for Channel 279A at South Haven are 42-18-02 North Latitude and 86-15-03 West Longitude. See SUPPLEMENTARY INFORMATION, infra.

DATES: Comments must be filed on or before February 17, 2004, reply comments on or before March 3, 2004.

ADDRESSES: Federal Communications Commission, Washington, DC 20554. In addition to filing comments with the FCC, interested parties should serve the petitioner, or its counsel or consultant, as follows: Paul A. Cicelski, Esq., Shaw Pittman, LLP, 2300 N Street, NW., Washington, DC 20037 (Counsel for Petitioner).

FOR FURTHER INFORMATION CONTACT: Sharon P. McDonald, Media Bureau, (202) 418-2180.

SUPPLEMENTARY INFORMATION: This is a synopsis of the Commission's Notice of Proposed Rule Making, MB Docket No. 03-257, adopted December 18, 2003, and released December 23, 2003. The full text of this Commission decision is available for inspection and copying during normal business hours in the FCC Reference Information Center (Room CY-A257), 445 12th Street, SW., Washington, DC. The complete text of this decision may also be purchased from the Commission's copy contractor, Qualex International, Portals, II, 445 12th Street, SW., Room CY-B402, Washington, DC 20054, telephone (202) 863-2893, facsimile (202) 863-2898, or via e-mail qualexint@aol.com.

Additionally, Channel 252A can be reallotted to Hartford at petitioner's requested site without the imposition of a site restriction. The coordinates for Channel 252A at Hartford are 42-24-00 North Latitude and 86-16-20 West Longitude. Since Hartford and South Haven are located within 320 kilometers (200 miles) of the U.S. Canadian border, concurrence of the Canadian government has been requested. In accordance with Section 1.420(i) of the Commission's Rules, we will not accept competing expressions of interest for the use of Channel 279A at South Haven, Michigan, or the use of Channel 252A at Hartford, Michigan, or require petitioner to provide an equivalent class channels for the use of other interested parties.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Michigan, is amended by removing Channel 279A and by adding Channel 252A at Hartford; by removing Channel 252A and by adding Channel 279A at South Haven.

Federal Communications Commission.
John A. Karousos,
Assistant Chief, Audio Division, Media Bureau.

[FR Doc. 04-109 Filed 1-5-04; 8:45 am]

BILLING CODE 6712-01-P